DEPARTMENT OF JUSTICE

Notice Lodging of Proposed Consent Decree Under the Comprehensive Environmental Response, Compensation, and Liability Act

On November 16, 2016, the Department of Justice lodged a proposed consent decree with the United States District Court for the Northern District of Illinois in the lawsuit entitled United States and State of Illinois v. North Shore Gas Co., Civil Action No. 16-10672.

The proposed consent decree resolves claims by the United States and the State of Illinois in the associated complaint under the Comprehensive Environmental Response, Compensation, and Liability Act against North Shore Gas Company (“NSG”) for response actions and future response costs relating to the NSG South Plant Manufactured Gas Plant Superfund Alternative Site in Waukegan, Lake County, Illinois (“the Site”). Under the proposed consent decree, NSG agrees to perform the remedial actions, estimated to cost $10.5 million, selected by EPA and to pay future response costs incurred by the United States and the State of Illinois. The proposed consent decree includes a covenant not to sue NSG conditioned upon the satisfactory performance by NSG of its obligations under the proposed consent decree.

The publication of this notice opens a period for public comment on the proposed consent decree. Comments should be addressed to the Assistant Attorney General, Environment and Natural Resources Division, and should refer to United States and State of Illinois v. North Shore Gas Co., D.J. Ref. No. 90-11-3-11472. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $44.25 (25 cents per page reproduction cost) payable to the United States Treasury. For a paper copy without the exhibits and signature pages, the cost is $9.25.

Randall M. Stone,
Acting Assistant Section Chief, Environmental Enforcement Section, Environment and Natural Resources Division.

[FR Doc. 2016-28136 Filed 11-22-16; 8:45 am]

BILLING CODE 4410-15-P